DEPARTMENT OF LABOR

Office of the Secretary

Advisory Council on Employee Welfare and Pension Benefit Plans; Notice of Reestablishment

In accordance with the provisions of the Federal Advisory Committee Act and Office of Management and Budget Circular A-63 and after consultation with the General Services Administration (GSA), the Secretary of Labor has determined that the reestablishment of the Advisory Council on Employee Welfare and Pension Benefit Plans is in the public interest in connection with the performance of duties imposed on the Department by section 512(a)(1) of the Employee Retirement Income Security Act of 1974 (ERISA).

The Advisory Council on Employee Welfare and Pension Benefit Plans shall advise the Secretary of Labor on technical aspects of the provisions of ERISA and shall provide reports and/or recommendations by November 14 of each year on its findings to the Secretary of Labor.

The Council shall be composed of 15 members appointed by the Secretary. Not more than eight members of the Council shall be of the same political party. Three of the members shall be representatives of employee organizations, (at least one of whom shall be representative of any organization members of which are participants in a multiemployer plan); three of the members shall be representatives of employers (at a multiemployer plan); three of the members shall be representatives of employers (at least one of whom shall be representative of employers maintaining or contributing to multiemployer plans); three members shall be representatives appointed from the general public (one of whom shall be a person representing those receiving benefits from a pension plan); and there shall be one representative each from the fields of insurance, corporate trust, actuarial counseling, investment counseling, investment management, and the accounting field.

The Advisory Council will report to the Secretary of Labor. It will function solely as an advisory body and in compliance with the provisions of the Federal Advisory Committee Act, and its charter will be filed under the Act. For further information, contact Sharon K. Morrissey, Executive Secretary, Advisory Council on Employee Welfare and Pension Benefit Plans, U.S. Department of Labor, 200 Constitution Avenue, NW., Washington, DC 20210, telephone (202) 693-8322.

Signed in Washington, DC, this 23rd day of January, 2003.
Elaine L. Chao,
Secretary of Labor.

[FR Doc. 03-2288 Filed 1-30-03; 8:45 am]

BILLING CODE 4510-29-P